DEPARTMENT OF ENERGY

Federal Energy Regulatory Commission

[Docket No. IC02-717-001, FERC-717]

Commission Information Collection Activities, Proposed Collection; Comment Request; Submitted for OMB Review

October 25, 2002.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received comments from one entity in response to an earlier Federal Register notice of June 21, 2002 (67 FR 42243-42244), and has responded to these comments in its submission to OMB.

DATES: Comments on the collection of information are due by November 29, 2002.

ADDRESSES: Address comments on the collection of information to the Office of Management and Budget, Office of Information and Regulatory Affairs, Attention: Federal Energy Regulatory Commission Desk Officer, 725 17th Street, NW., Washington, DC 20503. The Desk Officer may be reached by telephone at 202-395-7856. A copy of the comments should also be sent to the Federal Energy Regulatory Commission, Office of the Chief Information Officer, CI-1, Attention: Michael Miller, 888 First Street NE., Washington, DC 20426. Comments may be filed either in paper format or electronically. Those persons filing electronically do not need to make a paper filing. For paper filings, such comments should be submitted to the Office of the Secretary, Federal Energy Regulatory Commission, 888 First Street, NE., Washington, DC 20426 and refer to Docket No. IC02-717-001.

Documents filed electronically via the Internet must be prepared in WordPerfect, MS Word, Portable Document Format, or ASCII format. To file the document, access the Commission's website at www.ferc.gov and click on “Make an E-filing,” and then follow the instructions for each screen. First time users will have to establish a user name and password. The Commission will send an automatic acknowledgment to the sender's E-mail address upon receipt of comments. User assistance for electronic filings is available at 202-208-0258 or by e-mail to efiling@ferc.fed.us. Comments should not be submitted to the e-mail address.

All comments may be viewed, printed or downloaded remotely via the Internet through FERC's homepage using the FERRIS link. User assistance for FERRIS is available at 202-502-8222, or by e-mail to contentmaster@ferc.fed.us.

FOR FURTHER INFORMATION CONTACT: Michael Miller may be reached by telephone at (202)502-8415, by fax at (202)208-2425, and by e-mail at michael.miller@ferc.gov.

SUPPLEMENTARY INFORMATION:

Description

The information collected and submitted for OMB review contains:

1. Collection of Information: FERC-717 “Open Access Same Time Information Systems”.

2. Sponsor: Federal Energy Regulatory Commission.

3. Control No. 1902-0173.

The Commission is now requesting that OMB approve a three-year extension of the current expiration date, with no changes to the existing collection. This is a mandatory information collection requirement and the Commission does not consider the information to be confidential.

4. Necessity of the Collection of Information: Submission of the information is necessary to enable the Commission to carry out its responsibilities in implementing the statutory provisions of part I of the Federal Power Act (FPA.), sections 309 and 311, 16 U.S.C. 825(h), and 825(j). Section 309 gives the Commission the authority to prescribe, issue, make and amend orders, rules and regulations to implement the provisions of the Federal Power Act. Section 311 gives the Commission authority to secure information necessary or appropriate for recommending legislation or to conduct investigations concerning generation, transmission, distribution and sale of electric energy regardless of whether they are jurisdictional or nonjurisdictional entities within the United States and its possessions. The Commission is also authorized to keep current information on the ownership, operation, management and control of all facilities for generation, transmission, distribution, sale, the capacity and output of these facilities and the relationship between the two. The information is also used for determining the cost(s) for generation, distribution, rates, charges, and contracts with respect to the sale of electric energy and the service to residential, rural, commercial and industrial consumers and other purchasers by private and public agencies.

The information collected under FERC-717 is specifically used to monitor the networks to ensure that potential purchasers of transmission services obtain the services on a non-discriminatory basis. Failure to issue these requirements would mean the Commission is not meeting its statutory obligations and permitting discrimination in interstate transmission services provided by public utilities.

The Commission is obligated by statute to regulate key economic aspects of the energy industry. The law requires the Commission's economic regulatory activity because the transmission and generation of electricity have been and continue to be a natural monopoly. The challenge facing the Commission is to develop a regulatory approach that promotes competitive markets while protecting customers and serving and safeguarding the public. To safeguard workable competition in wholesale power markets, the Commission must ensure open, nondiscriminatory access to transmission facilities and must monitor the market to detect instances of market abuse or failure.

The Commission implements these requirements in the Code of Federal Regulations (CFR) under 18 CFR part 37.

5. Respondent Description: The respondent universe currently comprises (on average) 140 entities subject to the Commission's jurisdiction.

6. Estimated Burden: 198,520 total hours, 140 respondents(average), 1 response per respondent annually, 1,418 hours per response (average).

7. Estimated Cost Burden to respondents: $22,283,975 (140 respondents × $159,171(cost per respondent)).

Statutory Authority: Sections 309 and 311 of the Federal Power Act, 16 U.S.C. 825(h), 825(j).

Magalie R. Salas,
Secretary.

[FR Doc. 02-27935 Filed 11-1-02; 8:45 am]

BILLING CODE 6717-01-P